DEPARTMENT OF COMMERCE

International Trade Administration

[A-122-853, A-570-937]

Citric Acid and Certain Citrate Salts from Canada and the People's Republic of China: Antidumping Duty Orders

AGENCY: Import Administration, International Trade Administration, Department of Commerce.

SUMMARY: Based on affirmative final determinations by the Department of Commerce (the Department) and the International Trade Commission (the ITC), the Department is issuing antidumping duty orders on citric acid and certain citrate salts (citric acid) from Canada and the People's Republic of China (PRC). On May 22, 2009, the ITC notified the Department of its affirmative determinations of material injury to a U.S. industry. See Citric Acid from Canada and China (Investigation Nos. 701-TA-456 and 731-TA-1151-1152 (Final), USITC Publication 4076, May 2009).

DATES: Effective Date: May 29, 2009.

FOR FURTHER INFORMATION CONTACT: Terre Keaton Stefanova (Canada) or Andrea Berton (PRC), AD/CVD Operations, Offices 2 and 8, Import Administration, International Trade Administration, U.S. Department of Commerce, 14th Street and Constitution Avenue, NW., Washington, DC 20230; telephone: (202) 482-1280 or (202) 482-4037, respectively.

SUPPLEMENTARY INFORMATION:

Background

On April 13, 2009, the Department published its affirmative final determinations of sales at less-than-fair-value in the antidumping duty investigations of citric acid from Canada and the PRC. See Notice of Final Determination of Sales at Less Than Fair Value: Citric Acid and Certain Citrate Salts from Canada, 74 FR 16843 (April 13, 2009); and Citric Acid and Certain Citrate Salts from the People's Republic of China: Final Determination of Sales at Less Than Fair Value, 74 FR 16838 (April 13, 2009).

On May 22, 2009, the ITC notified the Department of its final determinations pursuant to section 735(d) of the Tariff Act of 1930, as amended (the Act), that an industry in the United States is materially injured by reason of less-than-fair-value imports of citric acid from Canada and the PRC. See section 735(b)(1)(A)(i) of the Act.

Scope of the Orders

The scope of these orders includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of these orders also includes all forms of crude calcium citrate, including dicalcium citrate monohydrate, and tricalcium citrate tetrahydrate, which are intermediate products in the production of citric acid, sodium citrate, and potassium citrate. The scope of these orders does not include calcium citrate that satisfies the standards set forth in the United States Pharmacopeia and has been mixed with a functional excipient, such as dextrose or starch, where the excipient constitutes at least 2 percent, by weight, of the product. The scope of these orders includes the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (HTSUS), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.

Provisional Measures

Section 773(d) of the Act states that suspension of liquidation instructions issued pursuant to an affirmative preliminary determination may not remain in effect for more than four months except where exporters representing a significant proportion of exports of the subject merchandise request the Department to extend that four-month period to no more than six months. At the request of the exporters that accounted for a significant proportion of exports of the subject merchandise in the investigations of citric acid from Canada and the PRC, we extended the four-month period to no more than six months. See Citric Acid and Certain Citrate Salts from Canada: Notice of Preliminary Determination of Sales at Less Than Fair Value and Postponement of Final Determination, 73 FR 70324 (November 20, 2008) (Citric Acid from Canada Prelim); and Citric Acid and Certain Citrate Salts from the People's Republic of China: Preliminary Determination of Sales at Less Than Fair Value and Postponement of Final Determination, 73 FR 70328 (November 20, 2008) (Citric Acid from the PRC Prelim).

In these investigations, the six-month period beginning on the date of the publication of the preliminary determinations (i.e., November 20, 2008) ended on May 19, 2009. Furthermore, section 737 of the Act states that definitive duties are to begin on the date of publication of the ITC's final injury determination. Therefore, in accordance with section 733(d) of the Act, we will instruct CBP to terminate the suspension of liquidation and to liquidate, without regard to antidumping duties, unliquidated entries of citric acid from Canada and the PRC entered, or withdrawn from warehouse, for consumption on or after May 19, 2009, and before the date of publication of the ITC's final injury determination in the Federal Register. Suspension of liquidation will resume on or after the date of publication of the ITC's final injury determination in the Federal Register.

Antidumping Duty Orders

On May 22, 2009, in accordance with section 735(d) of the Act, the ITC notified the Department of its final determinations that an industry in the United States is materially injured within the meaning of section 735(b)(1)(A)(i) of the Act by reason of less-than-fair-value imports of citric acid from Canada and the PRC.

In accordance with section 736(a)(1) of the Act, the Department will direct U.S. Customs and Border Protection (CBP) to assess, upon further advice by the Department, antidumping duties equal to the amount by which the normal value of the merchandise exceeds the export price or constructed export price of the merchandise for all relevant entries of citric acid from Canada and the PRC. These antidumping duties will be assessed on all unliquidated entries of citric acid entered from Canada and the PRC, or withdrawn from warehouse, for consumption on or after November 20, 2008, the date on which the Department published its notices of preliminary determination in the Federal Register, but prior to May 19, 2009. See Citric Acid from Canada Prelim, 73 FR at 70324; and Citric Acid from the PRC Prelim, 73 FR at 70328.

On or after the date of publication of the ITC's notice of final determinations in the Federal Register, CBP will require, pursuant to section 736(a)(3) of the Act, will require, at the same time as importers would normally deposit estimated duties on this merchandise, a cash deposit equal to the estimated dumping margins as noted below:

Exporter | Producer | Margin
Canada
JBL Canada Inc. | JBL Canada Inc. | 23.21
All Others |  | 23.21
PRC
TTCA Co., Ltd. (a.k.a. Shandong TTCA Biochemistry Co., Ltd.) | TTCA Co., Ltd. (a.k.a. Shandong TTCA Biochemistry Co., Ltd.) | 129.08
Yixing Union Biochemical Co., Ltd. | Yixing Union Biochemical Co., Ltd. | 94.61
Anhui BBCA Biochemical Co., Ltd. | Anhui BBCA Biochemical Co., Ltd. | 111.85
Anhui BBCA Biochemical Co., Ltd. | China BBCA Maanshan Biochemical Corp. | 111.85
A.H.A. International Co., Ltd. | Yixing Union Biochemical Co., Ltd. | 111.85
A.H.A. International Co., Ltd. | Nantong Feiyu Fine Chemical Co., Ltd. | 111.85
High Hope International Group Jiangsu Native Produce IMP & EXP Co., Ltd. | Yixing Union Biochemical Co., Ltd. | 111.85
Huangshi Xinghua Biochemical Co., Ltd. | Huangshi Xinghua Biochemical Co., Ltd. | 111.85
Lianyungang JF International Trade Co., Ltd. | TTCA Co., Ltd. (a.k.a. Shandong TTCA Biochemistry Co., Ltd.) | 111.85
Laiwu Taihe Biochemistry Co., Ltd. | Laiwu Taihe Biochemistry Co., Ltd. | 111.85
Lianyungang Shuren Scientific Creation Import & Export Co., Ltd. | Lianyungang Great Chemical Industry Co., Ltd. | 111.85
Penglai Marine Bio-Tech Co. Ltd. | Penglai Marine Bio-Tech Co. Ltd. | 111.85
RZBC Imp & Exp. Co., Ltd./RZBC Co., Ltd./RZBC (Juxian) Co., Ltd. | RZBC Co., Ltd. | 111.85
RZBC Imp & Exp. Co., Ltd./RZBC Co., Ltd./RZBC (Juxian) Co., Ltd. | RZBC (Juxian) Co., Ltd. | 111.85
RZBC Imp & Exp. Co., Ltd./RZBC Co., Ltd./RZBC (Juxian) Co., Ltd. | Lianyungang Great Chemical Industry Co., Ltd. | 111.85
Shihezi City Changyun Biochemical Co., Ltd. | Shihezi City Changyun Biochemical Co., Ltd. | 111.85
Weifang Ensign Industry Co., Ltd. | Weifang Ensign Industry Co., Ltd. | 111.85
PRC-Wide Entity |  | 156.87

This notice constitutes the antidumping duty orders with respect to citric acid from Canada and the PRC, pursuant to section 736(a) of the Act. Interested parties may contact the Department's Central Records Unit, Room 1117 of the Main Commerce Building, for copies of an updated list of antidumping duty orders currently in effect.

These orders are issued and published in accordance with section 736(a) of the Act and 19 CFR 351.211(b).

Dated: May 26, 2009.
Ronald K. Lorentzen,
Acting Assistant Secretary for Import Administration.

[FR Doc. E9-12645 Filed 5-28-09; 8:45 am]

BILLING CODE 3510-DS-P